DEPARTMENT OF ENERGY

Federal Energy Regulatory Commission

Combined Notice of Filings #1

March 15, 2010.

Take notice that the Commission received the following electric corporate filings:

Docket Numbers: EC10-44-000.

Applicants: Cresent Ridge, LLC.

Description: Supplemental Information for Crescent Ridge LLC.

Filed Date: 03/04/2010.

Accession Number: 20100304-5045.

Comment Date: 5 p.m. Eastern Time on Monday, March 22, 2010.

Take notice that the Commission received the following exempt wholesale generator filings:

Docket Numbers: EG10-17-000.

Applicants: Uilk Wind Farm, LLC.

Description: Self Certification Notice of Uilk Wind Farm, LLC.

Filed Date: 01/26/2010.

Accession Number: 20100126-5108.

Comment Date: 5p.m. Eastern Time on Thursday, March 25, 2010.

Take notice that the Commission received the following electric rate filings:

Docket Numbers: ER07-682-005.

Applicants: Entergy Services, Inc.

Description: Entergy Operating Companies submits compliance filing.

Filed Date: 03/12/2010.

Accession Number: 20100315-0219.

Comment Date: 5 p.m. Eastern Time on Friday, April 2, 2010.

Docket Numbers: ER07-956-003.

Applicants: Entergy Services, Inc.

Description: Entergy Operating Companies submits compliance filing.

Filed Date: 03/12/2010.

Accession Number: 20100315-0220.

Comment Date: 5 p.m. Eastern Time on Friday, April 2, 2010.

Docket Numbers: ER09-1099-003; ER07-412-004.

Applicants: Empire Generating Co, LLC; ECP Energy I, LLC.

Description: Quarterly Report of ECP Energy I, LLC, and Empire Generating Co, LLC.

Filed Date: 02/02/2010.

Accession Number: 20100202-5146.

Comment Date: 5 p.m. Eastern Time on Monday, April 5, 2010.

Docket Numbers: ER09-1192-004.

Applicants: Southwest Power Pool Inc.

Description: Southwest Power Pool, Inc submits a ministerial filing to correct bylaws effective date.

Filed Date: 03/10/2010.

Accession Number: 20100312-0213.

Comment Date: 5 p.m. Eastern Time on Wednesday, March 31, 2010.

Docket Numbers: ER10-566-000.

Applicants: Coso Geothermal Power Holdings, LLC.

Description: Amendment to Application of Coso Geothermal Power Holdings, LLC.

Filed Date: 03/10/2010.

Accession Number: 20100310-5073.

Comment Date: 5 p.m. Eastern Time on Monday, March 22, 2010.

Docket Numbers: ER10-566-000.

Applicants: Coso Geothermal Power Holdings, LLC.

Description: Substitute Organizational Chart of Coso Geothermal Power Holdings, LLC.

Filed Date: 03/11/2010.

Accession Number: 20100311-5048.

Comment Date: 5 p.m. Eastern Time on Monday, March 22, 2010.

Docket Numbers: ER10-642-001; ER10-643-001; ER10-310-002.

Applicants: Algonquin Tinker Gen Co.; Algonquin Northern Maine Gen Co.; Algonquin Energy Services Inc.

Description: Algonquin Tinker Gen Co. et al. resubmits Substitute First Revised Sheets No. 4 as Exhibits A and B to FERC Electric Tariff, Revised Volume No. 1, with revised sheet designations and effective dates.

Filed Date: 03/12/2010.

Accession Number: 20100315-0002.

Comment Date: 5 p.m. Eastern Time on Friday, April 2, 2010.

Docket Numbers: ER10-663-001.

Applicants: DTE Energy Supply, Inc.

Description: DTE Energy Supply, Inc supplements its 1/26/2010 Notice of Succession.

Filed Date: 03/12/2010.

Accession Number: 20100315-0221.

Comment Date: 5 p.m. Eastern Time on Friday, April 2, 2010.

Docket Numbers: ER10-852-000.

Applicants: Grays Ferry Cogeneration Partnership.

Description: Petition of Grays Ferry Cogeneration Partnership for order accepting market-based rate tariff for filing and granting waivers and blanket approvals and request for expedited action.

Filed Date: 03/10/2010.

Accession Number: 20100311-0024.

Comment Date: 5 p.m. Eastern Time on Wednesday, March 31, 2010.

Docket Numbers: ER10-853-000.

Applicants: Dynamic PL, LLC.

Description: Petition for Acceptance of Initial Tariff, Waivers and Blanket Authorization re: Dynamic PL, LLC.

Filed Date: 03/12/2010.

Accession Number: 20100315-0201.

Comment Date: 5 p.m. Eastern Time on Friday, April 2, 2010.

Docket Numbers: ER10-854-000.

Applicants: CornerStone Power Development, LLC.

Description: CornerStone Power Development, LLC submits Application for Order Authorizing Market Based Rates, Waivers of Regulations, Grants of Blanket Approvals, Request for Category 1 Seller Status etc.

Filed Date: 03/12/2010.

Accession Number: 20100315-0228.

Comment Date: 5 p.m. Eastern Time on Wednesday, March 24, 2010.

Docket Numbers: ER10-857-000.

Applicants: Louisville Gas and Electric Company.

Description: Louisville Gas and Electric Company et al. submits a Notice of Cancellation of their Automatic Reserve Sharing Energy Sales Tariff etc. re: FERC Electric Tariff, Original Volume 4.

Filed Date: 03/11/2010.

Accession Number: 20100311-0028.

Comment Date: 5 p.m. Eastern Time on Thursday, April 1, 2010.

Docket Numbers: ER10-858-000.

Applicants: LG&E Capital Trimble County LLC.

Description: LG&E Capital Trimble County, LLC submits a Notice of Cancellation of its Test Power Sales Tariff etc. re: Rate Schedule FERC No 1.

Filed Date: 03/11/2010.

Accession Number: 20100311-0027.

Comment Date: 5 p.m. Eastern Time on Thursday, April 1, 2010.

Docket Numbers: ER10-859-000.

Applicants: Louisville Gas and Electric Company.

Description: Louisville Gas and Electric Company submits Notice of Cancellation of its Power Sales Services Tariff etc. re: FERC Electric Tariff, First Revised Volume 6.

Filed Date: 03/11/2010.

Accession Number: 20100311-0026.

Comment Date: 5 p.m. Eastern Time on Thursday, April 1, 2010.

Docket Numbers: ER10-866-000.

Applicants: Midwest Independent Transmission System Operator, Inc.

Description: Midwest Independent Transmission System Operator, Inc. submits First Revised Sheet 2875 et al. to its FERC Electric Tariff, Fourth Revised Volume 1, to be effective 6/1/10.

Filed Date: 03/12/2010.

Accession Number: 20100315-0202.

Comment Date: 5 p.m. Eastern Time on Friday, April 2, 2010.

Docket Numbers: ER10-867-000.

Applicants: Midwest Independent Transmission System Operator, Inc.

Description: Midwest Independent Transmission System Operator, Inc submits proposed revisions to its Open Access Transmission, Energy and Operating Reserve Markets Tariff to amend Schedule 31 etc.

Filed Date: 03/12/2010.

Accession Number: 20100315-0204.

Comment Date: 5 p.m. Eastern Time on Friday, April 2, 2010.

Docket Numbers: ER10-868-000.

Applicants: The Cleveland Electric Illuminating Company.

Description: The Cleveland Electric Illuminating Company submits Notice of Cancellation of First Revised Sheet 1 to its FERC Electric Tariff, Original Volume 2 to be effective 3/31/10.

Filed Date: 03/12/2010.

Accession Number: 20100315-0205.

Comment Date: 5 p.m. Eastern Time on Friday, April 2, 2010.

Docket Numbers: ER10-869-000.

Applicants: Ohio Edison Company.

Description: Ohio Edison Company et al. submits Notice of Cancellation of First Revised Sheet 1 to FERC Electric Tariff, First Revised Volume 2 to be effective 3/21/10.

Filed Date: 03/12/2010.

Accession Number: 20100315-0206.

Comment Date: 5 p.m. Eastern Time on Friday, April 2, 2010.

Docket Numbers: ER10-870-000.

Applicants: The Toledo Edison Company.

Description: The Toledo Edison Company submits Notices of Cancellation of FERC Electric Tariff, Original Volume 1 and FERC Electric Tariff, Original Volume 3.

Filed Date: 03/12/2010.

Accession Number: 20100315-0207.

Comment Date: 5 p.m. Eastern Time on Friday, April 2, 2010.

Docket Numbers: ER10-871-000.

Applicants: PacifiCorp.

Description: PacifiCorp submits Transmission System Interconnection Agreement with Black Hills Power, Inc, to be designated as their Rate Schedule 658 et al.

Filed Date: 03/12/2010.

Accession Number: 20100315-0208.

Comment Date: 5 p.m. Eastern Time on Friday, April 2, 2010.

Docket Numbers: ER10-872-000.

Applicants: American Electric Power Service Corporation.

Description: AEP Texas Central Company submits an executed Restated and Amended Interconnection Agreement with South Texas Electric Cooperative, Inc.

Filed Date: 03/12/2010.

Accession Number: 20100315-0209.

Comment Date: 5 p.m. Eastern Time on Friday, April 2, 2010.

Docket Numbers: ER10-873-000.

Applicants: Ameren Services Company.

Description: Union Electric Company submits an executed service agreement for Wholesale Distribution Service with City of St. James, Missouri.

Filed Date: 03/12/2010.

Accession Number: 20100315-0210.

Comment Date: 5 p.m. Eastern Time on Friday, April 2, 2010.

Docket Numbers: ER10-874-000.

Applicants: Ameren Services Company.

Description: Union Electric Company submits an executed service agreement for Wholesale Distribution Service with Rolla Municipal Utilities.

Filed Date: 03/12/2010.

Accession Number: 20100315-0211.

Comment Date: 5 p.m. Eastern Time on Friday, April 2, 2010.

Docket Numbers: ER10-875-000.

Applicants: Ameren Services Company.

Description: Union Electric Company submits an executed Connection Construction Agreement with Rolla Municipal Utilities.

Filed Date: 03/12/2010.

Accession Number: 20100315-0212.

Comment Date: 5 p.m. Eastern Time on Friday, April 2, 2010.

Docket Numbers: ER10-876-000.

Applicants: Ameren Services Company.

Description: Union Electric Company submits an executed Distribution Connection Agreement with Rolla Municipal Utilities et al.

Filed Date: 03/12/2010.

Accession Number: 20100315-0214.

Comment Date: 5 p.m. Eastern Time on Friday, April 2, 2010.

Docket Numbers: ER10-877-000.

Applicants: The Empire District Electric Company.

Description: The Empire District Electric Company submits its Full Requirements Electric Service Rate Schedule, including a standard form of Electric Service Agreement, designated FERC Electric Rate Schedule 4 effective 6/1/10.

Filed Date: 03/12/2010.

Accession Number: 20100315-0216.

Comment Date: 5 p.m. Eastern Time on Friday, April 2, 2010.

Docket Numbers: ER10-878-000.

Applicants: Peetz Table Wind Energy, LLC.

Description: Peetz Table Wind Energy, LLC submits an Amended and Restated Shared Facilities Agreement with Logan Wind Energy LLC et al.

Filed Date: 03/12/2010.

Accession Number: 20100315-0217.

Comment Date: 5 p.m. Eastern Time on Friday, April 2, 2010.

Docket Numbers: ER10-879-000.

Applicants: Entergy Arkansas Inc.

Description: Entergy Arkansas, Inc submits the 2010 Wholesale Formula Rate Update.

Filed Date: 03/12/2010.

Accession Number: 20100315-0218.

Comment Date: 5 p.m. Eastern Time on Friday, April 2, 2010.

Docket Numbers: ER10-880-000.

Applicants: Saracen Merchant Energy LP.

Description: Saracen Merchant Energy, LP submits Notice of Cancellation of Rate Schedule FERC No. 1.

Filed Date: 03/12/2010.

Accession Number: 20100315-0229.

Comment Date: 5 p.m. Eastern Time on Friday, April 2, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-6211 Filed 3-19-10; 8:45 am]

BILLING CODE 6717-01-P